DEPARTMENT OF DEFENSE

Office of the Secretary

Department of Defense Military Family Readiness Council (MFRC); Notice of Federal Advisory Committee Meeting

AGENCY: Department of Defense (DoD).

ACTION: Notice.

SUMMARY: The Department of Defense is publishing this notice to announce a Federal Advisory Committee meeting of the Department of Defense Military Family Readiness Council (MFRC). This meeting will be open to the public.

DATES: Thursday, April 27, 2017, from 1:00 p.m. to 3:00 p.m.

ADDRESSES: Pentagon Library & Conference Center, Room B6. Escorts will be provided from the Pentagon Visitors Center waiting area (Pentagon Metro entrance) upon request.

FOR FURTHER INFORMATION CONTACT: Ms. Melody McDonald or Dr. Randy Eltringham, Office of the Deputy Assistant Secretary of Defense (Military Community & Family Policy), Office of Family Readiness Policy, 4800 Mark Center Drive, Alexandria, VA 22350-2300, Room 3G15. Telephones (571) 372-0880; (571) 372-5315 or email: OSD Pentagon OUSD P-R Mailbox Family Readiness Council, osd.pentagon.ousd-p-r.mbx.family-readiness-council@mail.mil.

SUPPLEMENTARY INFORMATION: This meeting is being held under the provisions of the Federal Advisory Committee Act of 1972 (5 U.S.C. Appendix, as amended), the Government in the Sunshine Act of 1976 (5 U.S.C. 552b, as amended), and 41 CFR 102-3.150.

Pursuant to 5 U.S.C. 552b and 41 CFR 102-3.140 through 102-3.165, this meeting is open to the public, subject to the availability of space. Members of the public who are entering the Pentagon should arrive at the Pentagon Visitors Center waiting area (Pentagon Metro entrance) at 12:00 p.m. on the day of the meeting to allow time to pass through security check points and to be escorted to the meeting location. Members of the public need to email their RSVP to the Council at osd.pentagon.ousd-p-rmbx.family-readiness-council@mail.mil no later than 5:00 p.m. on Thursday, April 20, 2017 to confirm seating availability, to request an escort, and to request handicapped accessible transportation (cart) if needed.

Pursuant to 41 CFR 102-3.105(j) and 102-3.140, and section 10(a)(3) of the Federal Advisory Committee Act of 1972, interested persons may submit a written statement for review and consideration by submitting it to the Council's email address, osd.pentagon.ousd-p-r.mbx.family-readiness-council@mail.mil. The deadline for written submissions is 5:00 p.m. on Thursday, April 13, 2017 which is two weeks prior to the meeting date.

The purpose of this meeting is to receive information related to community collaboratives, policies, programs and services that provide relocation information and support services to DoD Service and family members throughout their mobile military lifecycle.

Thursday, April 27, 2017 Meeting Agenda

Welcome & Administrative Remarks.

The Impact of Relocation on Service and Family Members.

High Tech/High Touch Relocation Collaboratives and Support Services.

Minnesota's Beyond the Yellow Ribbon Support for the National Guard and Reserve.

Military OneSource Central Information and Referral Dissemination Point.

Military Service Relocation Best Practices (Panel).

Closing Remarks.

Note: Exact order may vary.

Dated: March 14, 2017.
Aaron Siegel,
Alternate OSD Federal Register Liaison Officer, Department of Defense.

[FR Doc. 2017-05368 Filed 3-16-17; 8:45 am]

BILLING CODE 5001-06-P